DEPARTMENT OF ENERGY

10 CFR Part 430

[EERE-2021-BT-STD-0012]

RIN 1904-AF22

Energy Conservation Program: Definitions for General Service Lamps

AGENCY: Office of Energy Efficiency and Renewable Energy, Department of Energy.

ACTION: Notice of proposed rulemaking and announcement of public meeting.

SUMMARY: On January 19, 2017, the U.S. Department of Energy (“DOE”) published two final rules adopting revised definitions of general service lamp (“GSL”) and general service incandescent lamp (“GSIL”), and other supplemental definitions, to go into effect January 1, 2020. Prior to that effective date, on September 5, 2019, DOE withdrew the revised definitions of GSL, GSIL, and the other supplemental definitions. Upon further review and consideration, in this notice of proposed rulemaking (“NOPR”), DOE proposes to adopt the definitions of GSL and GSIL and the associated supplemental definitions set forth in the January 2017 final rules. This document also announces a public meeting to receive comment on these proposed definitions.

DATES:

Meeting: DOE will hold a public meeting via webinar on Thursday, September 30, 2021, from 10:00 a.m. to 4:00 p.m. See section V, “Public Participation,” for webinar registration information, participant instructions and information about the capabilities available to webinar participants.

Comments: DOE will accept comments, data, and information regarding this NOPR no later than October 18, 2021.

ADDRESSES: Interested persons are encouraged to submit comments using the Federal eRulemaking Portal at www.regulations.gov. Follow the instructions for submitting comments. Alternatively, interested persons may submit comments identified by docket number EERE-2021-BT-STD-0012, and by email: To 2021STD0012GSLDefinitions@ee.doe.gov. Include docket number EERE-2021-BT-STD-0012 in the subject line of the message.

No telefacsimiles (“faxes”) will be accepted. For detailed instructions on submitting comments and additional information on this process, see section V of this document.

Although DOE has routinely accepted public comment submissions through a variety of mechanisms, including postal mail and hand delivery/courier, the Department has found it necessary to make temporary modifications to the comment submission process in light of the ongoing coronavirus disease 2019 (“COVID-19”) pandemic. DOE is accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, not all documents listed in the index may be publicly available, such as information that is exempt from public disclosure.

The docket web page can be found at www.regulations.gov/#!docketDetail;D=EERE-2021-BT-STD-0012. The docket web page contains instructions on how to access all documents, including public comments, in the docket. See section V for information on how to submit comments through www.regulations.gov.

FOR FURTHER INFORMATION CONTACT: Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Ms. Celia Sher, U.S. Department of Energy, Office of the General Counsel, GC-33, 1000 Independence Avenue SW, Washington, DC 20585-0121. Telephone: (202) 287-6122. Email: Celia.Sher@hq.doe.gov.

For further information on how to submit a comment, review other public comments and the docket, or participate in the public meeting, contact the Appliance and Equipment Standards Program staff at (202) 287-1445 or by email: ApplianceStandardsQuestions@ee.doe.gov.

SUPPLEMENTARY INFORMATION:

Table of Contents

I. Authority and Background

A. Authority

B. March 2016 Notice of Proposed Rulemaking and October 2016 Notice of Proposed Definition and Data Availability

C. January 2017 Final Rules

D. September 2019 Withdrawal Rule and Subsequent Review

II. Synopsis of the Proposed Rule

III. General Discussion

A. GSL and GSIL Definitions

B. Discontinuation of Exemptions

C. GSLs and GSILs

1. T-Shape, B, BA, CA, F, G16-1/2, G25, G30, S, and M-14 Lamps

2. Rough Service Lamps, Vibration Service Lamps, 3-Way Incandescent Lamps, and Shatter-Resistant Lamps

D. Other GSLs

E. Incandescent Reflector Lamps

F. Supplemental Definitions

G. Proposed Effective Date

IV. Procedural Issues and Regulatory Review

A. Review Under Executive Orders 12866

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Review Under Section 32 of the Federal Energy Administration Act of 1974

M. Materials Incorporated by Reference

V. Public Participation

A. Attendance at the Webinar

B. Procedure for Submitting Prepared General Statements for Distribution

C. Conduct of the Webinar

D. Submission of Comments

VI. Approval of the Office of the Secretary

I. Authority and Background

Amendments to the Energy Policy and Conservation Act (“EPCA”) in the Energy Independence and Security Act of 2007, Public Law 110-140 (“EISA”) directed DOE to conduct a number of rulemakings regarding coverage of lamps as GSLs and GSILs, and to evaluate energy conservation standards for such lamps. 42 U.S.C. 6295(i)(6)(A)-(B). Pursuant to this authority, DOE conducted a rulemaking to establish revised regulatory definitions for GSLs and GSILs. See 82 FR 7276 (Jan. 19, 2017); 82 FR 7322 (Jan. 19, 2017). Subsequently, DOE conducted a rulemaking in which it withdrew these revised definitions before they took effect. 84 FR 46661 (Sept. 5, 2019). The following paragraphs provide an overview of the authorities and final rules issued by DOE relevant to the definitions for GSL, GSIL, and related terms, as proposed in this NOPR.

A. Authority

EPCA, as amended,¹ authorizes DOE to regulate the energy efficiency of a number of consumer products and certain industrial equipment. 42 U.S.C. 6291-6317. Title III, Part B ² of EPCA, established the Energy Conservation Program for Consumer Products Other Than Automobiles. 42 U.S.C. 6291-6309. These products include GSLs, the subject of this rulemaking.

¹ All references to EPCA in this document refer to the statute as amended through the Energy Act of 2020, Public Law 116-260 (Dec. 27, 2020).

² For editorial reasons, upon codification in the U.S. Code, Part B was redesignated Part A.

EPCA directs DOE to conduct two rulemaking cycles to evaluate energy conservation standards for GSLs. 42 U.S.C. 6295(i)(6)(A)-(B). GSLs are defined in EPCA to include GSILs, compact fluorescent lamps (“CFLs”), general service light-emitting diode (“LED”) lamps and organic light emitting diode (“OLED”) lamps, and any other lamps that the Secretary of Energy (“Secretary”) determines are used to satisfy lighting applications traditionally served by general service incandescent lamps. 42 U.S.C. 6291(30)(BB)(i), (CC)(i), (DD). The EPCA provision setting forth relevant definitions indicates that the term “general service lamp” in EPCA does not include any of the twenty-two lighting applications or bulb shapes explicitly not included in the definition of “general service incandescent lamp,” ³ or any general service fluorescent lamp or incandescent reflector lamp. 42 U.S.C. 6291(30)(BB)(ii).

³ As defined in EPCA “general service incandescent lamp” does not include the following incandescent lamps: (I) An appliance lamp; (II) A black light lamp; (III) A bug lamp; (IV) A colored lamp; (V) An infrared lamp; (VI) A left-hand thread lamp; (VII) A marine lamp; (VIII) A marine signal service lamp; (IX) A mine service lamp; (X) A plant light lamp; (XI) A reflector lamp; (XII) A rough service lamp; (XIII) A shatter-resistant lamp (including a shatter-proof lamp and a shatter-protected lamp); (XIV) A sign service lamp; (XV) A silver bowl lamp; (XVI) A showcase lamp; (XVII) A three-way incandescent lamp; (XVIII) A traffic signal lamp; (XIX) A vibration service lamp; (XX) A G shape lamp (as defined in ANSI C78.20-2003 and C79.1-2002[)] with a diameter of 5 inches or more; (XXI) A T shape lamp (as defined in ANSI C78.20-2003 and C79.1-2002) [and] that uses not more than 40 watts or has a length of more than 10 inches; (XXII) A B, BA, CA, F, G16-1/2, G-25, G30, S, or M-14 lamp (as defined in ANSI C79.1-2002 and ANSI C78.20-2003) of 40 watts or less. 42 U.S.C. 6291(30)(D)(ii).

For the first rulemaking cycle, EPCA directs DOE to initiate a rulemaking process prior to January 1, 2014, to consider two questions: (1) Whether to amend energy conservation standards for general service lamps to establish more stringent standards than EPCA specifies, and (2) whether “the exemptions for certain incandescent lamps should be maintained or discontinued.” 42 U.S.C. 6295(i)(6)(A)(i). In developing such a rule, DOE must consider a minimum efficacy standard of 45 lumens per watt (“lm/W”). 42 U.S.C. 6295(i)(6)(A)(ii). Further, if the Secretary determines that the standards in effect for GSILs should be amended, EPCA provides that a final rule must be published by January 1, 2017, with an effective date at least three years after the date on which the final rule is published. 42 U.S.C. 6295(i)(6)(A)(iii). Additionally, EPCA directs that the Secretary shall consider phased-in effective dates after considering certain economic factors. 42 U.S.C. 6295(i)(6)(A)(iv). If DOE fails to complete a rulemaking in accordance with 42 U.S.C. 6295(i)(6)(A)(i)-(iv), or if a final rule from the first rulemaking cycle does not produce savings greater than or equal to the savings from a minimum efficacy standard of 45 lm/W, the statute provides a “backstop” under which DOE must prohibit sales of GSLs that do not meet a minimum 45 lm/W standard. 42 U.S.C. 6295(i)(6)(A)(v).

EPCA further directs DOE to initiate a second rulemaking cycle by January 1, 2020, to determine whether standards in effect for GSILs (which are a subset of GSLs) should be amended with more stringent maximum wattage requirements than EPCA specifies, and whether the exemptions for certain incandescent lamps should be maintained or discontinued. 42 U.S.C. 6295(i)(6)(B)(i). As in the first rulemaking cycle, the scope of the second rulemaking is not limited to incandescent lamp technologies. 42 U.S.C. 6295(i)(6)(B)(ii).

In addition to the two mandated rulemaking cycles, under the statutory definition of GSL, DOE has authority to include lamps as GSLs upon determining that they are “used to satisfy lighting applications traditionally served by general service incandescent lamps.” 42 U.S.C. 6291(30)(BB)(i)(IV).

B. March 2016 Notice of Proposed Rulemaking and October 2016 Notice of Proposed Definition and Data Availability

Pursuant to its statutory authority, DOE published a Notice of Proposed Rulemaking on March 17, 2016 that addressed the first question that Congress directed it to consider—whether to amend energy conservation standards for GSLs (“March 2016 NOPR”). 81 FR 14528, 14629-14630 (Mar. 17, 2016). In that NOPR, DOE stated that it would be unable to undertake any analysis regarding GSILs and other incandescent lamps because of a then-applicable congressional restriction (“the Appropriations Rider”). See Id. at 81 FR 14528, 14540-14541. The Appropriations Rider prohibited expenditure of funds appropriated by that law to implement or enforce: (1) 10 CFR 430.32(x), which includes maximum wattage and minimum rated lifetime requirements for GSILs; and (2) standards set forth in section 325(i)(1)(B) of EPCA (42 U.S.C. 6295(i)(1)(B)), which sets minimum lamp efficiency ratings for incandescent reflector lamps (“IRLs”). Under the Appropriations Rider, DOE was restricted from undertaking the analysis required to address the first question presented by Congress, but was not so limited in addressing the second question—that is, DOE was not prevented from determining whether the exemptions for certain incandescent lamps should be maintained or discontinued. To address that second question, DOE published a Notice of Proposed Definition and Data Availability (“NOPDDA”), which proposed to amend the definitions of GSIL, GSL, and related terms (“October 2016 NOPDDA”). 81 FR 71794, 71815 (Oct. 18, 2016). Notably, the Appropriations Rider originally was adopted in 2011 and was readopted and extended continuously in multiple subsequent legislative actions. It expired on May 5, 2017, when the Consolidated Appropriations Act, 2017 was enacted.⁴

⁴ See Consolidated Appropriations Act of 2017 (Pub. L. 115-31, div. D, tit. III); see also Consolidated Appropriations Act, 2018 (Pub. L. 115-141).

C. January 2017 Final Rules

On January 19, 2017, DOE published two final rules concerning the definitions of GSL, GSIL, and related terms. 82 FR 7276; 82 FR 7322 (“January 2017 Final Rules”). The January 2017 Final Rules amended the definitions of GSIL and GSL by bringing certain categories of lamps within the definitions of GSIL and GSL that EPCA had exempted. These two rules were issued simultaneously, with the first rule maintaining the existing exemption for IRLs in the definition of GSL and the second rulemaking determining to discontinue the IRL exemption. See 82 FR 7312; 82 FR 7323. The January 2017 Final Rules related only to the second question that Congress directed DOE to consider, regarding whether to maintain or discontinue “exemptions” for certain incandescent lamps. 42 U.S.C. 6295(i)(6)(A)(i)(II). DOE explained in the rule that the discontinuation of certain exemptions would render the lamps within those exemptions GSLs, to the extent they would otherwise qualify as GSLs. For certain lamps, the discontinuation of the exemption may also render the lamp a GSIL, to the extent it would otherwise qualify as a GSIL. 82 FR 7277. DOE stated that it would then either impose standards on these lamps pursuant to its authority to develop GSL standards or apply the backstop standard prohibiting the sale of lamps not meeting a 45 lm/W efficacy standard. 82 FR 7276, 7277. The definitions in the January 2017 Final Rules were to become effective on January 1, 2020. 82 FR 7276, 7276; 82 FR 7322, 7322.

D. September 2019 Withdrawal Rule and Subsequent Review

With the removal of the Appropriations Rider in the Consolidated Appropriations Act, 2017, DOE was no longer restricted from undertaking the analysis and decision-making required to address the first question presented by Congress—that is, whether to amend energy conservation standards for GSLs, including GSILs. Thus, on August 15, 2017, DOE published a Notice of Data Availability and request for information (“NODA”) seeking data for GSILs and other incandescent lamps (“August 2017 NODA”). 82 FR 38613.

The purpose of the August 2017 NODA was to assist DOE in determining whether standards for GSILs should be amended. 42 U.S.C. 6295(i)(6)(A)(i)(I). Comments submitted in response to the August 2017 NODA also led DOE to reconsider the decisions it had already made with respect to the second question presented to DOE (whether the exemptions for certain incandescent lamps should be maintained or discontinued). 42 U.S.C. 6295(i)(6)(A)(i)(II). As a result of the comments received in response to the August 2017 NODA, DOE also re-assessed the legal interpretations underlying certain decisions made in the January 2017 Final Rules.

On February 11, 2019, DOE published a NOPR proposing to withdraw the revised definitions of GSL and GSIL, and the new and revised definitions of related terms that were to go into effect on January 1, 2020. 84 FR 3120. In a final rule published September 5, 2019, DOE finalized the withdrawal of the definitions of GSIL, GSL, and related terms established in the January 2017 Final Rules. 84 FR 46661 (“September 2019 Withdrawal Rule”). Informed, in part, by comments received in response to the August 2017 NODA, DOE concluded in the September 2019 Withdrawal Rule that maintaining the definitions for GSL and GSIL as established by EPCA and not discontinuing certain exemptions pursuant to the required review under 42 U.S.C. 6295(i)(6)(A)(i) was the best reading of the statute. 84 FR 46661, 46665-46666. DOE also stated that it identified inaccuracies underlying its determination to revise the definitions of GSL and GSIL. 84 FR 46661, 46665. Based on data received in response to the August 2017 NODA, DOE learned that it had overestimated shipment numbers for candelabra base incandescent lamps by a factor of more than two. Id. In withdrawing the definitions established in the January 2017 Final Rules, DOE specifically addressed its determinations to maintain the exemptions for rough service lamps; shatter-resistant lamps; three-way incandescent lamps; high lumen incandescent lamps (2,601-3,300 lumens); vibration service lamps; T-shape lamps of 40 watts (“W”) or less or length of 10 inches or more; B, BA, CA, F, G16-1/2, G25, G30, S, M-14 lamps of 40 W or less; candelabra base lamps; and IRLs. Id.

The September 2019 Withdrawal Rule also addressed issues and comments regarding the imposition of the 45 lm/W backstop, applicability of EPCA's anti-backsliding provision at 42 U.S.C. 6295(o), and preemption of State regulation of lamps. 84 FR 46663-46665, 46669. These additional issues are not the subject of this NOPR. DOE has requested comments and data to inform further consideration of the 45 lm/W backstop provision. See 86 FR 28001 (May 25, 2021).

As a result of the September 2019 Withdrawal Rule, the amended definitions of GSL and GSIL and the new and revised definitions of related terms established in the January 2017 Final Rules were withdrawn prior to going into effect. The current regulatory definitions of GSL and GSIL are those set forth in EPCA. See 10 CFR 430.2; see also 42 U.S.C. 6291(30)(D); 42 U.S.C. 6291(30)(BB).

Subsequent to the September 2019 Withdrawal Rule, on January 20, 2021, President Biden issued Executive Order (“E.O.”) 13990, “Protecting Public Health and the Environment and Restoring Science to Tackle the Climate Crisis.” 86 FR 7037 (Jan. 25, 2021). Section 1 of that Order lists a number of policies related to the protection of public health and the environment, including reducing greenhouse gas emissions and bolstering the Nation's resilience to climate change. 86 FR 7037, 7041. Section 2 of the Order instructs all agencies to review “existing regulations, orders, guidance documents, policies, and any other similar agency actions . . . promulgated, issued, or adopted between January 20, 2017, and January 20, 2021, that are or may be inconsistent with, or present obstacles to, [these policies].” Id. Agencies are then directed, as appropriate and consistent with applicable law, to consider suspending, revising, or rescinding these agency actions and to immediately commence work to confront the climate crisis. Id.

Consistent with E.O. 13990, DOE has undertaken a review of the definitions of GSL and GSIL in the September 2019 Withdrawal Rule and the January 2017 Final Rules. Although E.O. 13990 triggered DOE's review, DOE is relying on its analysis below, based on the language and intent of EPCA, to support its decision to reconsider the September 2019 Withdrawal Rule. As a result of this review, DOE rejects the alternative interpretation of the statutory directives in EPCA set forth in the September 2019 Withdrawal rule and preliminarily determines that DOE's interpretation in this proposed rule is the best and proper reading of the statute.

II. Synopsis of the Proposed Rule

In this NOPR, DOE proposes to amend the definitions of GSL and GSIL as previously set forth in the January 2017 Final Rules. DOE has preliminarily determined that the definitions as proposed are consistent with the congressional direction provided in EPCA and further the purposes set forth in EPCA, as well as in E.O. 13990. Additionally, DOE proposes to adopt the supplemental definitions established in the January 2017 Final Rules, which relate to the proposed definitions of GSL and GSIL. DOE is not proposing whether standards for GSLs, including GSILs, should be amended. Rather, DOE is proposing the scope of lamps to be considered in such a determination.

III. General Discussion

A. GSL and GSIL Definitions

To provide context for this NOPR, this section provides further description of the statutory and regulatory definitions, as amended under the January 2017 Final Rules and September 2019 Withdrawal Rule rulemakings.

EPCA defines the class of GSLs as including GSILs, CFLs, general service LED and OLED lamps, and any other lamps that DOE determines are used to satisfy lighting applications traditionally served by GSILs; however, as initially specified by EPCA, GSLs did not include any lighting application or bulb shape that under 42 U.S.C. 6291(30)(D)(ii) is not included in the “general service incandescent lamp” definition, or any general service fluorescent lamp or incandescent reflector lamp. 42 U.S.C. 6291(30)(BB).

EPCA defines a GSIL generally as a standard incandescent or halogen type lamp that is intended for general service applications; has a medium screw base; has a lumen range of not less than 310 lumens and not more than 2,600 lumens or, in the case of a modified spectrum lamp, not less than 232 lumens and not more than 1,950 lumens; and is capable of being operated at a voltage range at least partially within 110 and 130 volts. 42 U.S.C. 6291(30)(D)(i). This definition does not apply, however, to the following incandescent lamps: An appliance lamp; a black light lamp; a bug lamp; a colored lamp; an infrared lamp; a left-hand thread lamp; a marine lamp; a marine signal service lamp; a mine service lamp; a plant light lamp; a reflector lamp; a rough service lamp; a shatter-resistant lamp (including a shatter-proof lamp and a shatter-protected lamp); a sign service lamp; a silver bowl lamp; a showcase lamp; a three-way incandescent lamp; a traffic signal lamp; a vibration service lamp; a G shape lamp (as defined in ANSI C78.20 and ANSI C79.1-2002) with a diameter of 5 inches or more; a T shape lamp (as defined in ANSI C78.20 and ANSI C79.1-2002) and that uses not more than 40 watts or has a length of more than 10 inches; and a B, BA, CA, F, G16-1/2, G-25, G30, S, or M-14 lamp (as defined in ANSI C79.1-2002 and ANSI C78.20) of 40 watts or less. 42 U.S.C. 6291(30)(D)(ii).

In the January 2017 Final Rules, invoking the rulemaking authority afforded by EPCA in 42 U.S.C. 6291(30)(BB)(i)(IV), DOE amended the regulatory definition of GSL to mean a lamp that had an ANSI base; was able to operate at a voltage of 12 volts or 24 volts, at or between 100 to 130 volts, at or between 220 to 240 volts, or of 277 volts for integrated lamps, or was able to operate at any voltage for non-integrated lamps; had an initial lumen output of greater than or equal to 310 lumens (or 232 lumens for modified spectrum general service incandescent lamps) and less than or equal to 3,300 lumens; was not a light fixture; was not an LED downlight retrofit kit; and was used in general lighting applications. 82 FR 7312. General service lamps included, but were not limited to, general service incandescent lamps, compact fluorescent lamps, general service light-emitting diode lamps, and general service organic light-emitting diode lamps. 82 FR 7276, 7321.

As defined in the January 2017 Final Rules, GSLs did not include: (1) Appliance lamps; (2) Black light lamps; (3) Bug lamps; (4) Colored lamps; (5) G shape lamps with a diameter of 5 inches or more as defined in ANSI C79.1-2002; (6) General service fluorescent lamps; (7) High intensity discharge lamps; (8) Infrared lamps; (9) J, JC, JCD, JCS, JCV, JCX, JD, JS, and JT shape lamps that do not have Edison screw bases; (10) Lamps that have a wedge base or prefocus base; (11) Left-hand thread lamps; (12) Marine lamps; (13) Marine signal service lamps; (14) Mine service lamps; (15) MR shape lamps that have a first number symbol equal to 16 (diameter equal to 2 inches) as defined in ANSI C79.1-2002, operate at 12 volts, and have a lumen output greater than or equal to 800; (16) Other fluorescent lamps; (17) Plant light lamps; (18) R20 short lamps; (19) Reflector lamps that have a first number symbol less than 16 (diameter less than 2 inches) as defined in ANSI C79.1- 2002 and that do not have E26/E24, E26d, E26/50x39, E26/53x39, E29/28, E29/53x39, E39, E39d, EP39, or EX39 bases; (20) S shape or G shape lamps that have a first number symbol less than or equal to 12.5 (diameter less than or equal to 1.5625 inches) as defined in ANSI C79.1-2002; (21) Sign service lamps; (22) Silver bowl lamps; (23) Showcase lamps; (24) Specialty MR lamps; (25) T shape lamps that have a first number symbol less than or equal to 8 (diameter less than or equal to 1 inch) as defined in ANSI C79.1-2002, nominal overall length less than 12 inches, and that are not compact fluorescent lamps; and (26) Traffic signal lamps. Id.; 82 FR 7322, 7333.

The January 2017 Final Rules defined GSIL to discontinue the exemptions for rough service lamps; shatter-resistant lamps; three-way incandescent lamps; vibration service lamps; reflector lamps; T-shape lamps of 40 W or less or length of 10 inches or more; and B, BA, CA, F, G16-1/2, G25, G30, S, M-14 lamps of 40 W or less. 82 FR 7276, 7291.

DOE subsequently withdrew the definitions as established in the January 2017 Final Rules before their effective date and reverted to the statutory definitions. As a result, the exemptions from the definitions of GSL and GSIL as originally provided in EPCA are currently maintained.

B. Discontinuation of Exemptions

The September 2019 Withdrawal Rule failed to give meaningful effect to the statutory direction that DOE determine whether exemptions for certain incandescent lamps should be discontinued. In adopting the rulemaking mandate, Congress provided DOE with the authority to adjust the scope of GSLs and GSILs to ensure that the energy savings Congress intended would be achieved notwithstanding the possibility that, with the passage of time, different lamps might be used to satisfy lighting applications traditionally served by GSILs. 42 U.S.C. 6295(i)(6)(A)(i)-(ii). In disavowing DOE's prior conclusions in the January 2017 Final Rules, the September 2019 Withdrawal Rule incongruously asserted that the statutory command to DOE to determine whether to discontinue certain exemptions did not give DOE authority to amend statutory definitions by regulation, 84 FR 46667, but then failed to explain what that command does authorize. In doing so, the September 2019 Withdrawal Rule disregarded congressional intent as expressed through the statutory language. In contrast, the position taken in the January 2017 Final Rules did fulfill the intent of Congress by using the authority granted to DOE through EISA to achieve the energy savings for GSLs that Congress expected. This position represents the best implementation of EPCA given the potential for lost energy savings that may result from the use of lamps in general lighting applications that would not be subject to energy conservation standards. As DOE understood in the January 2017 Final Rules, EPCA exempted certain categories of lamps because, on the one hand, some lamps in those categories have specialty applications; and on the other hand, it was not clear, at the time when these lamp provisions were originally enacted, whether those lamps were used to satisfy lighting applications traditionally served by GSILs. 82 FR 7276, 7277. The purpose, then, of the determination Congress directed DOE to make (i.e., whether to maintain or to discontinue a given exemption (42 U.S.C. 6295(i)(6)(A)(i)(II))) was that DOE should assess the role of lamps of the various exempted types in the broader lighting market, bearing in mind the evident statutory purpose of achieving energy conservation by imposing efficiency standards for general lighting. Id. at 82 FR 7276, 7277. That is, Congress directed DOE to evaluate whether the exempted lamps are being used in applications in which GSILs have previously been used.

In the September 2019 Withdrawal Rule, DOE failed to properly consider the congressional intent underlying EPCA generally and EISA specifically, and, consequently, failed to read the statute in the proper context, leading to an incorrect interpretation by DOE in 2019 that it could not exercise its authority to remove exemptions for certain incandescent lamps that are used in general lighting applications. The initial determination reached here to adopt the definitions established in the January 2017 Final Rules best aligns with EPCA's goals for increasing the energy efficiency of covered products through the establishment and amendment of energy conservation standards and promoting conservation measures when feasible. 42 U.S.C. 6291 et seq., as amended.

C. GSLs and GSILs

As discussed in section I.A, EPCA directs DOE to initiate a rulemaking process prior to January 1, 2014, to consider two questions: (1) Whether to amend energy conservation standards for general service lamps and (2) whether “the exemptions for certain incandescent lamps should be maintained or discontinued.” 42 U.S.C. 6295(i)(6)(A)(i). In the January 2017 Final Rules, which addressed the second question, DOE understood the purpose of the determinations regarding exemptions required under section (i)(6)(A)(i)(II) of EPCA to be to ensure that a given exemption would not impair the effectiveness of GSL standards by leaving available a convenient substitute that is not regulated as a GSL. DOE based its decision for each exemption on an assessment of whether the exemption encompasses lamps that can provide general illumination and can functionally be a ready substitute for lamps already covered as GSLs. Id. A lamp that is capable of providing general illumination has design features that make it highly suitable for performing that task in the sort of application in which GSILs have traditionally served. 82 FR 7276, 7303. The technical characteristics of lamps in a given exemption and the volume of sales of those lamps were among the considerations relevant to that assessment. 82 FR 7276, 7288. High annual sales were an indication that the product is likely used in general lighting applications, because the sales of lamps for specialty applications tend to be relatively small compared with sales for general-purpose lighting. Id. DOE also cautioned that sales data are not the only consideration, as it may be appropriate to discontinue an exemption even though current sales are relatively low, if technical characteristics of the exempted lamps make them likely to serve as ready substitutes for GSLs once GSL standards are in place. Id.

Contrary to this position, in the September 2019 Withdrawal Rule, DOE stated that it may have overstepped its limited authority by relying on factors that Congress did not intend it to consider. DOE further stated that it was no longer using “convenient unregulated alternatives” as a basis upon which to discontinue exemptions for specialty lamp types. DOE agreed with those commenters that asserted this consideration went beyond the authority granted by Congress to use the potential that a lamp may be considered a loophole to GSL standards as the basis for discontinuing its exemption under the statute. 84 FR 46661, 46668-46669. Subsequently, in the September 2019 Withdrawal Rule, DOE maintained the definitions of GSLs and GSILs. Id.

Upon reviewing the September 2019 Withdrawal Rule, DOE now recognizes that the analysis in that rule may have overlooked certain considerations and may not have accurately characterized the actions taken in the January 2017 Final Rules. Certain factors were not fully explored in the September 2019 Withdrawal Rule and merit consideration in determining whether to amend the definitions of GSL and GSIL. The specific discussions from the September 2019 Withdrawal Rule that require further consideration are addressed in the appropriate sections that follow.

Based on the analysis and evaluation presented in the rulemaking culminating in the January 2017 Final Rules, and the discussion that follows, DOE is proposing to define GSIL to mean: A standard incandescent or halogen type lamp that is intended for general service applications; has a medium screw base; has a lumen range of not less than 310 lumens and not more than 2,600 lumens or, in the case of a modified spectrum lamp, not less than 232 lumens and not more than 1,950 lumens; and is capable of being operated at a voltage range at least partially within 110 and 130 volts; however, this definition does not apply to the following incandescent lamps: An appliance lamp; a black light lamp; a bug lamp; a colored lamp; a G shape lamp with a diameter of 5 inches or more as defined in ANSI C79.1-2002; an infrared lamp; a left-hand thread lamp; a marine lamp; a marine signal service lamp; a mine service lamp; a plant light lamp; an R20 short lamp; a sign service lamp; a silver bowl lamp; a showcase lamp; and a traffic signal lamp.

The proposed definition explicitly exempts R20 short lamps to maintain an exemption for these lamps consistent with DOE's determination in a final rule published on November 14, 2013, that standards for R20 short lamps would not result in significant energy savings because such lamps are designed for special applications or have special characteristics not available in reasonably substitutable lamp types. 78 FR 68331, 68340.

As stated, GSILs are included in the definition of GSL. 42 U.S.C. 6291(30)(BB)(i)(I). Any lamp that meets the definition of a GSIL would be a GSL. As such, consideration of whether a GSIL exemption should be maintained, for purposes of both the GSL definition and the GSIL definition, is informed, in part, by the considerations under DOE's authority to include other lamps as GSLs because they “are used to satisfy lighting applications traditionally served by general service incandescent lamps.” 42 U.S.C. 6291(30)(BB)(i)(IV). Based on DOE's review of product availability, technical information, and prior stakeholder comments, DOE preliminarily finds that the unavailability of non-incandescent substitutes for a given lamp suggests that the lamp is not being used for traditional GSIL applications. If design characteristics of lamps for a given application are such that the non-incandescent lamp cannot be made with the same characteristics, DOE preliminarily concludes those lamps are not being used for general illumination and, therefore, such lamps would be excluded from the definition of GSLs See 82 FR 7276, 7301.

Also relevant to DOE's consideration of whether to maintain a GSIL exemption, DOE must also determine what types of lighting applications have been traditionally served by GSILs. As stated in the January 2017 Final Rules, traditionally, lamps that are standard incandescent or halogen and that satisfy the other criteria for the definition of GSIL in 42 U.S.C. 6291(30)(D) have served general lighting applications. 82 FR 7276, 7302. By “general lighting applications,” DOE means lighting that provides an interior or exterior area with overall illumination. DOE considers the term “overall illumination” to be similar in meaning to the term “general lighting” as defined in the industry standard ANSI/IES RP-16-10, which states that “general lighting” means lighting designed to provide a substantially uniform level of illuminance throughout an area, exclusive of any provision for special local requirements.

Further discussion of DOE's consideration of including other lamps as GSLs is discussed in greater detail in section III.D of this document. The following paragraphs discuss the proposed discontinuation of the exemptions for certain T-shape, B, BA, CA, F, G16-1/2, G25, G30, S, and M-14 lamps; rough service lamps; vibration service lamps; three-way incandescent lamps; and shatter-resistant lamps.

1. T-Shape, B, BA, CA, F, G16-1/2, G25, G30, S, and M-14 Lamps

In the January 2017 Final Rules, DOE discontinued the exemptions for certain T-shape lamps and certain B, BA, CA, F, G16-1/2, G25, G30, S, and M-14 lamps. 82 FR 7276, 7294. DOE found that T-shape lamps are frequently used in general lighting applications and thus present a significant risk for lamp switching. Based on this high potential for lamp switching—reflected in part by high sales—DOE discontinued the GSIL exemption for these lamps. Id. Regarding B, BA, CA, F, G16-1/2, G25, G30, S, and M-14 lamps, DOE noted that Congress listed these lamps together in paragraph (XXII), and so considered whether to maintain the exemption for these lamps as a group. Id. DOE also noted that the pear shapes and globe shapes characterized by the majority of lamps in this category would not prevent consumers from using them in general service lighting applications and found that these lamps are very common. 82 FR 7276, 7295. DOE considered the potential for lamp switching through the future use of different fixtures and found there to be a potential that inclusion of some but not all of the lamps in the group would shift the market to the lamp or lamps that remain exempt. Id. Accordingly, DOE discontinued exemptions in the GSIL definition for B, BA, CA, F, G16-1/2, G25, G30, S, and M-14 lamps of 40 W or less. Id.

However, in the January 2017 Final Rules, DOE did maintain exemptions from the GSL definition set forth in those final rules for the following lamp shapes: (1) T-shape lamps that have a first number symbol less than or equal to 8 (diameter less than or equal to 1 inch) as defined in ANSI C79.1-2002, nominal overall length less than 12 inches, and that are not compact fluorescent lamps; and (2) S-shape or G-shape lamps that have a first number symbol less than or equal to 12.5 (diameter less than or equal to 1.5625 inches) as defined in ANSI C79.1-2002. DOE concluded that those lamps should not have been included in the GSL definition set forth in those final rules because they do not and likely cannot have equivalent replacements using more efficient technology. 82 FR 7276, 7310.

In the September 2019 Withdrawal Rule, DOE addressed the discontinuation of exemptions for certain T-shape, B, BA, CA, F, G16-1/2, G25, G30, S, and M-14 lamps together with candelabra base lamps, stating that discontinuing the exemptions for all of these lamp categories was not consistent with the best reading of the statute because such lamps are not used in the same applications as the standard GSIL. 84 FR 46661, 46668. DOE stated that these lamps generally provide a more limited range of light output as compared with GSILs not subject to exemption, have form factors not as large as GSILs not subject to exemptions, and present a decorative aesthetic not replicated by GSILs not subject to the exemptions. Id.

Upon further consideration, DOE has tentatively determined that candelabra base lamps were inappropriately addressed with T-shape, B, BA, CA, F, G16-1/2, G25, G30, S, and M-14 lamps in the September 2019 Withdrawal Rule. The January 2017 Final Rules determined whether T-shape, B, BA, CA, F, G16-1/2, G25, G30, S, and M-14 lamps would remain exempt from the definition of GSIL, and thus were evaluated in the context of the GSIL definition. 82 FR 7276, 7297. Candelabra base lamps were not included in this evaluation since the lamps do not have a medium screw base as required under the GSIL definition. Instead, DOE determined in the January 2017 Final Rules that candelabra base lamps should be covered as GSLs. See 82 FR 7276, 7310. In this NOPR, DOE appropriately addresses in section III.D of this document candelabra base lamps in the context of the GSL definition.

Regarding the light output of certain T-shape, B, BA, CA, F, G16-1/2, G25, G30, S, and M-14 lamps, DOE tentatively concludes that the September 2019 Withdrawal Rule inaccurately stated that these lamps provide a more limited range of light output as compared with GSILs not subject to exemption. However, these lamps were only considered to the extent that they were in the lumen range of 310-2600 per the GSIL definition. As such, in order to be included in the exemption under the statutory definition of GSIL, and therefore considered for discontinuation of the exemption in the January 2017 Final Rules, the lamps must have a lumen output of 310 lumens or greater, consistent with GSILs not subject to the exemption. As DOE concluded in the January 2017 Final Rules, even with a maximum wattage limitation, these lamps are still capable of providing overall illumination (i.e., general illumination). 82 FR 7276, 7294-7295.

Regarding the form factor and size of certain T-shape, B, BA, CA, F, G16-1/2, G25, G30, S, and M-14 lamps, DOE tentatively concludes that such lamps were not accurately compared to lamps that meet the current statutory definition of GSIL in the September 2019 Withdrawal Rule. The September 2019 Withdrawal Rule stated that these lamps have form factors not as large as currently defined GSILs. 84 FR 46661, 46668. However, DOE now recognizes that the most common GSIL is an A19 shape,⁵ and that the G25 and G30 lamps have a diameter 31 percent and 57 percent greater, respectively, than the diameter of the A19 shape. Further, the September 2019 Withdrawal Rule stated that these lamp shapes present a decorative aesthetic not replicated by lamps that meet the current statutory definition of GSIL. Id. DOE no longer agrees that this statement supports continued exemption, as data indicates that the decorative shape does not prevent consumers from using them in general service lighting applications. See 82 FR 7276, 7310. Additionally, as described previously, some lamps with these shapes are currently certified as being compliant with DOE's standards for GSILs. As stated, if a more efficient version with the same shape cannot be made for a technical reason, DOE did not include the lamp as a GSL in the definition adopted by the January 2017 Final Rules and similarly does not propose to include such a lamp in the definition of GSL in this proposal.

⁵ See the final determination regarding energy conservation standards for GSILs published on December 27, 2019. 84 FR 71626.

With regard to T-shape lamps, DOE finds that T-shape lamps are capable of providing overall illumination and therefore can readily serve general lighting applications. See 82 FR 7276, 7294. With regard to B, BA, CA, F, G16-1/2, G25, G30, S, and M-14 lamps, DOE is considering whether to maintain the exemption for these lamps as a group due to its concern with lamp switching. As stated in the January 2017 Final Rules, DOE recognizes that the lamps listed here may each not be substituted for one another in existing fixtures, but present the potential for lamp switching through the future use of different fixtures. 82 FR 7276, 7295. As indicated by the high sales data of this category presented in the January 2017 Final Rules (82 FR 7276, 7291), DOE tentatively concludes these lamps to be very common and usable in general lighting applications. For the reasons discussed in the preceding paragraphs and presented in the January 2017 Final Rules, DOE has tentatively concluded that the basis for discontinuing the exemption for certain T-shape, B, BA, CA, F, G16-1/2, G25, G30, S, and M-14 lamps in this proposal is the best interpretation of the statute. In contrast to the interpretation adopted by DOE in 2019, this proposal best satisfies the intent of Congress and implements the objective of the statutory language of EPCA to conserve energy through regulation of certain energy uses and provide improved energy efficiency of certain consumer products. See 42 U.S.C. 6201. Accordingly, DOE proposes to define these products as GSILs in this proposal. DOE requests information and data, if available, on sales data of T-shape, B, BA, CA, F, G16-1/2, G25, G30, S, and M-14 lamps.

2. Rough Service Lamps, Vibration Service Lamps, Three-Way Incandescent Lamps, and Shatter-Resistant Lamps

Under 42 U.S.C. 6295(l)(4), DOE is required to undertake a rulemaking for rough service lamps, shatter-resistant lamps, three-way incandescent lamps, and vibration service lamps when the sales of these lamps meet specified thresholds.⁶ DOE is also required, in consultation with the National Electrical Manufacturers Association (“NEMA”), to collect sales data for these lamps and construct a model to predict future sales. 42 U.S.C. 6295(l)(4)(B). DOE must then track the actual sales data, and when sales exceed sales projected by the model by 100 percent, DOE must initiate an energy conservation standard rulemaking. 42 U.S.C. 6295(l)(4)(D), (E), (F), (H). If DOE does not complete the accelerated rulemaking in the specified time period, it must impose a backstop requirement for that lamp. 42 U.S.C. 6295(l)(4)(D)(ii), (E)(ii), (F)(ii), (H)(ii).

⁶ Lamps that otherwise would be GSILs but for having a lumen range between 2,601-3,300 (referred to in 42 U.S.C. 6295(l)(4) as “2,601-3,300 lumen general service incandescent lamps”) were defined in the January 2017 Final Rules as GSLs but not GSILs, and therefore are not addressed in this section.

In the January 2017 Final Rules, DOE determined that the rulemaking provisions at 42 U.S.C. 6295(l)(4) were not the only way in which DOE can regulate these lamps. 82 FR 7276, 7296. DOE noted that the text of 42 U.S.C. 6295(i) and 42 U.S.C. 6295(l)(4) does not state that the 42 U.S.C. 6295(l)(4) process operates to the exclusion of regulating these lamps as GSLs and that the provisions under 42 U.S.C. 6295(l)(4) could be complementary to regulation of these lamps as GSLs. Id. Based in part on the potential for these lamp types to serve as replacements to regulated GSLs, DOE discontinued the exemption for rough service lamps, shatter-resistant lamps, three-way incandescent lamps and vibration service lamps in the January 2017 Final Rules. Id.

In the September 2019 Withdrawal Rule, DOE determined that, since these lamps are subject to standards in accordance with a specific regulatory process under 42 U.S.C. 6295(l)(4), there is no need to undertake an additional process for determining whether to establish energy conservation standards for these lamp types as GSLs under 42 U.S.C. 6295(i)(6)(A)(i). 84 FR 46661, 46666. DOE explained that doing so would potentially subject these lamps types to two separate standards and potentially create confusion among regulated entities. Id. Moreover, DOE noted that the regime for potential regulation of these lamp types was added to the statute in the same enactment that required DOE to consider standards for GSLs, and in both instances the criteria stated in the statute for consideration for standards includes consideration of sales of the subject lamps. Id. In the September 2019 Withdrawal Rule, DOE read the inclusion of sales consideration in both 42 U.S.C. 6295(i)(6)(A)(i) and 42 U.S.C. 6295(l)(4) as an indication that Congress intended the two rulemaking provisions to be exclusive of one another. Id.

In this NOPR, DOE is reconsidering whether the separate regulatory process under 42 U.S.C. 6295(l)(4) precludes these lamp types from becoming GSILs, and subsequently GSLs. The September 2019 Withdrawal Rule did not consider that other lamps potentially subject to standards as GSLs also have statutorily prescribed standards, namely, GSILs and medium base CFLs. See Section 321(a)(3) of the Energy Independence and Security Act of 2007 (Pub. L. 110-140; “EISA”); ⁷ 42 U.S.C. 6295(bb). That lamps subject to statutory standards are also expressly GSLs subject to GSL standards indicates that coverage under more than one statutory scheme is not precluded under the statute.

⁷ Section 321 added statutorily prescribed standards for GSILs as section 325(i)(1)(A) of EPCA. But because of an apparent conflict with Section 322(b) of EISA, which purported to strike section 325(i)(1) in its entirety and replace it with a different text, this provision was never codified in the U.S. Code. DOE has issued regulations implementing this uncodified provision at 10 CFR 430.32(x).

Further, upon a review of how Congress has amended EPCA, DOE has tentatively concluded that standards for these exempt lamp types are not to be developed only in accordance with 42 U.S.C. 6295(l)(4)(A). Section 325(l)(4) of EPCA requires DOE to “prescribe an energy efficiency standard for rough service lamps, vibration service lamps, three-way incandescent lamps, 2,601-3,300 lumen general service incandescent lamps, and shatter-resistant lamps in accordance with this paragraph.” 42 U.S.C. 6295(l)(4)(A). Prior to 2012, that provision instead required DOE to prescribe standards for such lamps “only in accordance with this paragraph.” 42 U.S.C. 6295(l)(4)(A) (2011) (emphasis added). In amendments under the American Energy Manufacturing Technical Corrections Act, Public Law 112-210, § 10(a)(8), 126 Stat. 1513, 1524 (2012) (“AEMTCA”), Congress removed the word “only,” signaling that DOE's obligation to consider discontinuing “the exemptions for certain incandescent bulbs” under 42 U.S.C. 6295(i)(6)(A)(i)(II) also applies to the five tracked lamps.

With regard to rough service lamps, vibration service lamps, three-way incandescent lamps, and shatter-resistant lamps, as presented in the January 2017 Final Rules, DOE tentatively concludes that such lamps have the potential for use in general lighting applications traditionally served by GSILs. DOE acknowledges that higher wattage three-way incandescent lamps may not be able to be used in all existing fixtures in which lamps currently defined as GSILs are used (e.g., A19 shape lamps). However, the ability to serve as a lighting application traditionally served by GSILs is not limited by existing fixtures. As discussed, the fixtures used to serve general lighting applications may change over time, and therefore DOE considers whether a lamp can provide general illumination as a criterion for discontinuing an exemption. Regarding the shatter-resistant lamps, such lamps are capable of providing overall illumination despite the lower lumen output resulting from the shatter-resistant coating. DOE has also found that a 60 W shatter-resistant lamp is still a suitable replacement for a 40 W standard incandescent lamp. See 82 FR 7276, 7297. Shatter-resistant lamps are similar to rough service and vibration service lamps. Whereas rough service and vibration service lamps possess a filament strengthened with additional supports, shatter-resistant lamps possess a reinforced outer bulb to contain glass pieces in the event that the bulb breaks. As stated in the January 2017 Final Rules, for all three lamp types, the consumer may be under the impression that they are purchasing primarily a more durable product rather than a lamp with subpar performance. Id. Furthermore, as provided in the January 2017 Final Rules, for all three of these lamp types, LED versions inherently provide the consumer the desired functionality in the sense that LED lamps do not have metal filaments and typically do not use glass outer bulbs. Id.

For these reasons and the basis presented in the January 2017 Final Rules, DOE proposes to discontinue the exemptions for these products.

D. Other GSLs

As discussed, the definition of “general service lamp” includes specific categories of lamps, along with “any other lamps that the Secretary determines are used to satisfy lighting applications traditionally served by general service incandescent lamps.” 42 U.S.C. 6291(30)(BB)(i). In the January 2017 Final Rules, DOE previously determined that any other lamps that are intended to serve in general lighting applications and have specific features would meet the statutory criterion of lamps used to satisfy lighting applications traditionally served by GSILs. 82 FR 7276, 7300.

Although DOE had determined that several types of lamps exempted from the statutory definition of GSL are used to satisfy lighting applications traditionally served by general service incandescent lamps and therefore should be classified as GSLs (82 FR 7276, 7300-7312), the September 2019 Withdrawal Rule limited consideration of such lamps to only candelabra base lamps. Then, with respect to candelabra base lamps, the September 2019 Withdrawal Rule concluded that, as a pure matter of law, a candelabra base lamp cannot be a GSIL because EPCA defines a GSIL, in part, as having a medium-screw base. 84 FR 46661, 46668-46669. The September 2019 Withdrawal Rule also suggested that data submitted by NEMA in response to the NOPR to withdraw the January 2017 Final Rules indicated that shipments of candelabra base incandescent lamps had been in a continuous decline since 2011 and there was no evidence of increasing shipments. 84 FR 46661, 46669. Because sales data is the one explicit factor Congress provided in determining whether exemptions for certain incandescent lamps should be maintained or discontinued in 42 U.S.C. 6295(i)(6)(A)(i)(II), DOE gave this manufacturer data considerable weight in the September 2019 Withdrawal Rule. 84 FR 46661, 46669.

The September 2019 Withdrawal Rule also stated that DOE was no longer using “convenient unregulated alternatives” as a basis upon which to discontinue exemptions for specialty lamp types. 84 FR 46661, 46668. DOE explained that this type of consideration was not explicitly provided in the statute and agreed with commenters that such consideration went beyond the authority granted DOE by Congress. 84 FR 46661, 46668-46669.

Upon further review, the arguments presented in the September 2019 Withdrawal Rule incorrectly describe the rationale for including candelabra base lamps as GSLs in the January 2017 Final Rules. The arguments address discontinuing an exemption from the GSIL definition; however, in the January 2017 Final Rules, candelabra base lamps were determined to be GSLs under the provision of the GSL definition that includes any other lamps that the Secretary determines are used to satisfy lighting applications traditionally served by general service incandescent lamps. 82 FR 7276, 7312; See also 42 U.S.C. 6291(30)(BB)(i)(IV). Candelabra base lamps are not covered under the definition of GSILs because they do not have a medium screw base (See 42 U.S.C. 6291(30)(D)(i)(II)), but the January 2017 Final Rules did not consider candelabra base lamps to be GSILs. Instead, such lamps were covered as GSLs. 82 FR 7276, 7312.

DOE has preliminarily reverted to its position from the January 2017 Final Rules that relevant criteria for discontinuing an exemption for an incandescent lamp are whether the exemption encompasses lamps that can provide general illumination and whether the exempt lamps can functionally be ready substitutes for lamps already covered as GSLs. 82 FR 7276, 7288. It may be appropriate to discontinue an exemption even though current sales are relatively low, if technical characteristics of the exempted lamps make them likely to serve as ready substitutes for GSLs once GSL standards are in place. Further, for a lamp to satisfy a lighting application traditionally served by general service incandescent lamps, the lamp does not have to fit into an existing fixture served by a lamp currently defined as a GSL. As discussed, DOE has evaluated whether a lamp is capable of providing overall illumination. In the January 2017 Final Rules, DOE did not limit its consideration of an application traditionally served by GSIL to the ability to replace a lamp in a fixture currently used by a consumer that had been using a traditional incandescent lamp. 82 FR 7276, 7293. DOE noted in the January 2017 Final Rules, and reaffirms in this proposal, that lighting in homes that traditionally was provided by A shape lamps in floor and table fixtures is being provided in newer construction through reflector lamps in recessed lighting. Id. DOE expects that markets will shift in response to GSL standards, and would expect some substitution of fixtures to occur as part of substituting non-GSL lamps for GSLs.

While NEMA has cited declining shipments as a reason to not discontinue an exemption, declining shipments do not correlate to a decline in the demand for lighting in a particular application. NEMA has submitted data showing that GSIL shipments in 2018 were 17 percent of what they were in 2001. NEMA, No. 88 at p. 23.⁸ However, DOE does not believe that this translates to an 83 percent decrease in demand for light in general lighting applications. It is more likely that consumers are switching to other products that serve in the same application. NEMA stated that it expects 71 percent of GSL sockets to be occupied by LED lamps and 19 percent to be occupied by CFLs by the end of 2021, increasing to 87 percent and 7 percent respectively by the end of 2023. NEMA, No. 88 at p. 4.⁹ As lamps continue to be purchased in general lighting applications, the demand for light remains; thus, declining incandescent lamp shipments is not, on its own, an indication that the lamp is a specialty product or serves in a specialty application.

⁸ This comment was submitted in response to DOE's proposal in September 2019 to not amend standards for GSILs. See docket number EERE-2019-BT-STD-0022.

⁹ Id.

DOE has reviewed the definition of GSL as set forth in the January 2017 Final Rules and has preliminarily determined that the definition is consistent with the best reading of EPCA because it implements the objectives of the statute. DOE has considered all aspects of the GSL definition and has preliminarily identified the criteria pertinent to lamps that serve in general lighting applications and also preliminarily identified specialty products that should be exempt from the definition of GSL. Based on the discussion presented in this NOPR and that presented in the January 2017 Final Rules, DOE proposes a definition of GSL as set forth in the January 2017 Final Rules, which included candelabra base lamps and other lamps as GSLs based on the use of such lamps to satisfy lighting applications traditionally served by GSILs.

DOE is proposing to define “general service lamp” as a lamp intended to serve in general lighting applications and that has the following basic characteristics: (1) An ANSI base (with the exclusion of light fixtures, LED downlight retrofit kits, and exemptions for specific base types); (2) a lumen output of greater than or equal to 310 lumens and less than or equal to 3,300 lumens; (3) an ability to operate at or between 12 V, 24 V, 100 to 130 V, 220 to 240 V, or 277 V; and (4) no designation or label for use in non-general applications.

Regarding the fourth criteria, as in the January 2017 Final Rules, DOE proposes listing in the GSL definition each of the non-general applications identified or lamps used in such applications in order to clearly define the scope of the definition. Specifically, DOE proposes that “general service lamp” does not include: Appliance lamps; black light lamps; bug lamps; colored lamps; G shape lamps with a diameter of 5 inches or more as defined in ANSI C79.1-2002; general service fluorescent lamps; high intensity discharge lamps; infrared lamps; J, JC, JCD, JCS, JCV, JCX, JD, JS, and JT shape lamps that do not have Edison screw bases; lamps that have a wedge base or prefocus base; left-hand thread lamps; marine lamps; marine signal service lamps; mine service lamps; MR shape lamps that have a first number symbol equal to 16 (diameter equal to 2 inches) as defined in ANSI C79.1-2002, operate at 12 volts, and have a lumen output greater than or equal to 800; other fluorescent lamps; plant light lamps; R20 short lamps; reflector lamps that have a first number symbol less than 16 (diameter less than 2 inches) as defined in ANSI C79.1-2002, and that do not have E26/E24, E26d, E26/50x39, E26/53x39, E29/28, E29/53x39, E39, E39d, EP39, or EX39 bases; S shape or G shape lamps that have a first number symbol less than or equal to 12.5 (diameter less than or equal to 1.5625 inches) as defined in ANSI C79.1-2002; sign service lamps; silver bowl lamps; showcase lamps; specialty MR lamps; T-shape lamps that have a first number symbol less than or equal to 8 (diameter less than or equal to 1 inch) as defined in ANSI C79.1-2002, nominal overall length less than 12 inches, and that are not compact fluorescent lamps; and traffic signal lamps. As discussed in the following section, the proposed definition of GSL does not maintain the existing exemption for IRLs.

E. Incandescent Reflector Lamps

In the January 2017 Final Rules, DOE found that IRLs are widely used for general illumination just as GSILs are. 82 FR 7322, 7325. DOE continued that, if EPCA mandated that IRLs continue being exempt from the definition of GSL, then they would present a convenient alternative product, subject to much less stringent standards than GSLs. Id. DOE further found that the statute did not unambiguously indicate that DOE must maintain the IRL exemption. Id. DOE acknowledged that the statute exempts IRLs from the definition of GSL and separately exempts “reflector lamps” from the definition of GSL because reflector lamps are a bulb shape excluded from the GSIL definition. Id. See also 42 U.S.C. 6291(30)(BB)(ii)(II); 42 U.S.C. 6291(30)(D)(ii)(XI). However, DOE found the reference to “reflector lamps” in the GSIL list of exempted lamps to be of a narrower scope than IRLs. 82 FR 7322, 7325-7326.

Based on its reading of EPCA and the listing of “reflector lamp” as a lamp exempted from the definition of GSIL (42 U.S.C. 6291(30)(D)(ii)(XI)) and the exemption of “incandescent reflector lamps” from the definition of GSL (42 U.S.C. 6291(30)(BB)(ii)(II)), DOE understands that it had two tasks regarding exemptions relevant for these lamps: With respect to “reflector lamps,” DOE's task is to assess whether as one of the relatively narrow twenty-two listed lamp types—the scope of which the statute does not make clear—these lamps have uses in general illumination, and whether sales data and other evidence indicate that such lamps are ready substitutes for lamps that are already included as GSLs; and for IRLs, DOE was required to analyze whether, in light of sales data and other evidence, such lamps are an important enough substitute for lamps already included as GSLs to warrant discontinuing their exemption. 82 FR 7322, 7326. DOE determined in both instances that the discontinuation of the exemption was warranted. 82 FR 7276, 7293; 82 FR 7322, 7329-7330.

In the September 2019 Withdrawal Rule, DOE stated that, upon additional review, DOE understands Congress's express statements in two distinct provisions that IRLs are not GSLs should be interpreted as meaning that Congress intended that DOE not consider IRLs to be GSLs. 84 FR 46661, 46667. DOE noted that it continues to have the authority to establish energy conservation standards applicable to IRLs under separate requirements set by Congress in 42 U.S.C. 6295(i)(3). Id.

Upon further review, DOE is reconsidering whether DOE has the authority to include IRLs as GSILs and/or GSLs. The September 2019 Withdrawal Rule concluded that because IRLs were twice excluded from the statute, once from the GSIL definition in 42 U.S.C. 6291(30)(D)(ii)(XI) and once from the GSL definition in 42 U.S.C. 6291(30)(BB)(ii)(II), that means Congress did not want the Secretary to include IRLs within the definition of GSL. 84 FR 46661, 46666. However, the authorization in EPCA for the Secretary to evaluate whether an exemption is to be continued does not limit such an evaluation to those lamps exempted by definition only once. Therefore, in this NOPR, DOE is reviewing its position in the September 2019 Withdrawal Rule that EPCA precludes consideration of the exemption for IRLs simply because they were exempted twice. 42 U.S.C. 6295(i)(6)(A)(i)(II) authorizes DOE to decide not to maintain IRLs as exempt and, as such, DOE proposes to amend the definitions of GSIL and GSL to discontinue the exemptions for these products. As also presented in the January 2017 Final Rules, DOE proposes to exempt from the definition of GSL reflector lamps that have a first number symbol less than 16 (diameter less than 2 inches) as defined in ANSI C79.1-2002 and that do not have E26/24, E26d, E26/50x39, E26/53x39, E29/28, E29/53x39, E39, E39d, EP39, or EX39 bases because they do not and likely cannot have equivalent replacements using more efficient technology. 82 FR 7276, 7310. This is consistent with the definitions adopted in the January 2017 Final Rules.

F. Supplemental Definitions

In the January 2017 Final Rules, DOE set forth a series of definitions in support of the statutory use of the terms and the amended definitions for GSL and GSIL. Specifically, DOE set forth definitions for “Black light lamp,” “Bug lamp,” “Colored lamp,” “General service light-emitting diode (LED) lamp,” “General service organic lighting-emitting diode (OLED) lamp,” “Infrared lamp,” “Integrated lamp,” “LED Downlight Retrofit Kit,” “Lefthand thread lamp,” “Light fixture,” “Marine lamp,” “Marine signal service lamp,” “Mine service lamp,” “Nonintegrated lamp,” “Other fluorescent lamp,” “Pin base lamp,” “Plant light lamp,” “Reflector lamp,” “Showcase Lamp,” “Sign service lamp,” “Silver bowl lamp,” “Specialty MR lamp,” and “Traffic signal lamp.” DOE also revised the definition of “designed and marketed.” 82 FR 7276, 7321-7322.

In the September 2019 Withdrawal Rule, DOE withdrew the supporting definitions finding them no longer necessary given the withdrawal of the amended definitions of GSL and GSIL. 84 FR 46661, 46662.

In this NOPR, DOE is proposing supporting definitions for those terms as set forth in the January 2017 Final Rules. DOE notes that the terms for which definitions are proposed are used both in the statutory definitions of GSL and GSIL, and the proposed regulatory definitions for GSL and GSIL. As presented in the January 2017 Final Rules, DOE has based the proposed definitions for these supplementary terms on a review of the market and input from stakeholders. 82 FR 7276, 7312-7316. As the supporting definitions define statutory terms, DOE initially finds these definitions necessary even in the absence of amended GSL and GSIL definitions.

G. Proposed Effective Date

For the proposed changes to amend the definition of GSL and GSIL in this NOPR, DOE is proposing a 60-day effective date. If finalized, lamps included in these amended definitions would be subject to any applicable standards for GSLs and GSILs. While this notice does not propose any new or amended standards or address the applicability of the 45 lm/W backstop requirement, DOE is reconsidering its previous conclusion regarding the applicability of EPCA's 45 lm/W backstop provision and has issued an RFI to that effect. 86 FR 28001 (May 25, 2021). In that rulemaking, DOE will address application of standards for those lamps proposed in this NOPR to be GSLs or GSILs—including, if determined to be applicable, the implementation of the 45 lm/W backstop requirement—and, consequently, the dates of required compliance for GSLs and GSILs.

DOE requests comment on the effective date for the definitions proposed in this NOPR were such definitions to be made final.

IV. Procedural Issues and Regulatory Review

A. Review Under Executive Orders 12866

The Office of Information and Regulatory Affairs (“OIRA”) in the Office of Management and Budget (“OMB”) waived Executive Order 12866 (“E.O.”) 12866, “Regulatory Planning and Review” review of this rule.

B. Review Under the Regulatory Flexibility Act

The Regulatory Flexibility Act (5 U.S.C. 601 et seq., as amended by the Small Business Regulatory Enforcement Fairness Act of 1996) requires preparation of an initial regulatory flexibility analysis (“IRFA”) for any rule that by law must be proposed for public comment, unless the agency certifies that the rule, if promulgated, will not have a significant economic impact on a substantial number of small entities. A regulatory flexibility analysis examines the impact of the rule on small entities and considers alternative ways of reducing negative effects. Also, as required by E.O. 13272, “Proper Consideration of Small Entities in Agency Rulemaking,” 67 FR 53461 (Aug. 16, 2002), DOE published procedures and policies on February 19, 2003, to ensure that the potential impacts of its rules on small entities are properly considered during the rulemaking process. 68 FR 7990. DOE has made its procedures and policies available on the Office of the General Counsel's website (https://energy.gov/gc/office-general-counsel).

DOE reviewed the definitions of GSL, GSILs, and related terms proposed in this NOPR under the provisions of the Regulatory Flexibility Act and the procedures and policies published on February 19, 2003. DOE certifies that this proposed rule would not have a significant economic impact on a substantial number of small entities. DOE notes that this proposed rule would merely define what constitutes a GSL and GSIL. Manufacturers of GSLs and GSILs are required to use DOE's test procedures to make representations and certify compliance with standards, if required. The test procedure rulemakings for CFLs, integrated LED lamps, and other GSLs addressed impacts on small businesses due to test procedure requirements. 81 FR 59386 (Aug. 29, 2016); 81 FR 43404 (July 1, 2016); 81 FR 72493 (Oct. 20, 2016). Further, as noted, DOE is considering EPCA's 45 lm/W backstop requirement for GSLs and has issued an RFI to that effect. 86 FR 28001. In that rulemaking, DOE plans to address the impact on small business manufacturers of GSLs and GSILs of implementing the backstop.

For this reason, DOE concludes and certifies that the proposed definitions would not have a significant economic impact on a substantial number of small entities, and the preparation of an IRFA is not warranted.

C. Review Under the Paperwork Reduction Act

Manufacturers of GSLs must certify to DOE that their products comply with any applicable energy conservation standards. In certifying compliance, manufacturers must test their products according to the DOE test procedures for GSLs and GSILs, including any amendments adopted for those test procedures. DOE has established regulations for the certification and recordkeeping requirements for all covered consumer products and commercial equipment. 76 FR 12422 (Mar. 7, 2011); 80 FR 5099 (Jan. 30, 2015). The collection-of-information requirement for the certification and recordkeeping is subject to review and approval by OMB under the Paperwork Reduction Act (“PRA”). This requirement has been approved by OMB under OMB control number 1910-1400. Public reporting burden for the certification is estimated to average 35 hours per response, including the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB Control Number.

D. Review Under the National Environmental Policy Act of 1969

DOE is analyzing this proposed regulation in accordance with the National Environmental Policy Act (“NEPA”) and DOE's NEPA implementing regulations (10 CFR part 1021). DOE's regulations include a categorical exclusion for rulemakings interpreting or amending an existing rule or regulation that does not change the environmental effect of the rule or regulation being amended. 10 CFR part 1021, subpart D, appendix A5. DOE anticipates that this proposed rulemaking qualifies for categorical exclusion A5 because it is an interpretive rulemaking that does not change the environmental effect of the rule and otherwise meets the requirements for application of a categorical exclusion. See 10 CFR 1021.410. DOE will complete its NEPA review before issuing the final rule.

E. Review Under Executive Order 13132

E.O. 13132, “Federalism,” 64 FR 43255 (Aug. 10, 1999), imposes certain requirements on Federal agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE has examined this proposed rule and has tentatively determined that it would not have a substantial direct effect on the States, on the relationship between the national government and the States, or on the distribution of power and responsibilities among the various levels of government. EPCA governs and prescribes Federal preemption of State regulations as to energy conservation for the products that are the subject of this proposed rule. States can petition DOE for exemption from such preemption to the extent, and based on criteria, set forth in EPCA. 42 U.S.C. 6297. Therefore, no further action is required by Executive Order 13132.

F. Review Under Executive Order 12988

With respect to the review of existing regulations and the promulgation of new regulations, Section 3(a) of E.O. 12988, “Civil Justice Reform,” imposes on Federal agencies the general duty to adhere to the following requirements: (1) Eliminate drafting errors and ambiguity, (2) write regulations to minimize litigation, (3) provide a clear legal standard for affected conduct rather than a general standard, and (4) promote simplification and burden reduction. 61 FR 4729 (Feb. 7, 1996). Regarding that Section 3(a) review, section 3(b) of E.O. 12988 specifically requires that Executive agencies make every reasonable effort to ensure that the regulation: (1) Clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of Executive Order 12988 requires Executive agencies to review regulations in light of applicable standards in Section 3(a) and Section 3(b) to determine whether they are met or it is unreasonable to meet one or more of them. DOE has completed the required review and determined that, to the extent permitted by law, this proposed rule meets the relevant standards of E.O. 12988.

G. Review Under the Unfunded Mandates Reform Act of 1995

Title II of the Unfunded Mandates Reform Act of 1995 (“UMRA”) requires each Federal agency to assess the effects of Federal regulatory actions on State, local, and Tribal governments and the private sector. Public Law 104-4, section 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. 2 U.S.C. 1532(a), (b). The UMRA also requires a Federal agency to develop an effective process to permit timely input by elected officers of State, local, and Tribal governments on a proposed “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at https://energy.gov/sites/prod/files/gcprod/documents/umra_97.pdf.

This proposed rulemaking does not contain a Federal intergovernmental mandate, nor is it expected to require expenditures of $100 million or more in any one year by the private sector. As a result, the analytical requirements of UMRA do not apply.

H. Review Under the Treasury and General Government Appropriations Act, 1999

Section 654 of the Treasury and General Government Appropriations Act, 1999 (Pub. L. 105-277) requires Federal agencies to issue a Family Policymaking Assessment for any rule that may affect family well-being. This proposed rulemaking would not have any impact on the autonomy or integrity of the family as an institution. Accordingly, DOE has concluded that it is not necessary to prepare a Family Policymaking Assessment.

I. Review Under Executive Order 12630

Pursuant to E.O. 12630, “Govern- mental Actions and Interference with Constitutionally Protected Property Rights,” 53 FR 8859 (Mar. 15, 1988), DOE has determined that this proposed rule would not result in any takings that might require compensation under the Fifth Amendment to the U.S. Constitution.

J. Review Under the Treasury and General Government Appropriations Act, 2001

Section 515 of the Treasury and General Government Appropriations Act, 2001 (44 U.S.C. 3516 note) provides for Federal agencies to review most disseminations of information to the public under information quality guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at www.energy.gov/sites/prod/files/2019/12/f70/DOE%20Final%20Updated%20IQA%20Guidelines%20Dec%202019.pdf. DOE has reviewed this NOPR under the OMB and DOE guidelines and has concluded that it is consistent with applicable policies in those guidelines.

K. Review Under Executive Order 13211

E.O. 13211, “Actions Concerning Regulations That Significantly Affect Energy Supply, Distribution, or Use,” 66 FR 28355 (May 22, 2001), requires Federal agencies to prepare and submit to OIRA at OMB, a Statement of Energy Effects for any proposed significant energy action. A “significant energy action” is defined as any action by an agency that promulgates or is expected to lead to promulgation of a final rule, and that (1) is a significant regulatory action under Executive Order 12866, or any successor order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use.

DOE has tentatively concluded that this regulatory action, which proposes amended definitions for GSL and GSIL, is not a significant energy action because the proposed definitions are not likely to have a significant adverse effect on the supply, distribution, or use of energy. Accordingly, DOE has not prepared a Statement of Energy Effects on this proposed rule.

L. Review Under Section 32 of the Federal Energy Administration Act of 1974

Under Section 301 of the Department of Energy Organization Act (Pub. L. 95-91; 42 U.S.C. 7101), DOE must comply with section 32 of the Federal Energy Administration Act of 1974, as amended by the Federal Energy Administration Authorization Act of 1977. 15 U.S.C. 788 (“FEAA”). Section 32 essentially provides in relevant part that, where a proposed rule authorizes or requires use of commercial standards, the notice of proposed rulemaking must inform the public of the use and background of such standards. In addition, Section 32(c) requires DOE to consult with the Attorney General and the Chairman of the Federal Trade Commission (“FTC”) concerning the impact of the commercial or industry standards on competition. This proposal to amend the definitions of GSL and GSIL does not propose the use of any commercial standards.

M. Materials Incorporated by Reference

The proposed modifications to the definition of “general service lamp” and the associated supporting definitions reference the following commercial standards that are already incorporated by reference in 10 CFR 430.2:

(1) ANSI C78.20-2003, Revision of ANSI C78.20-1995 (“ANSI C78.20”), American National Standard for electric lamps—A, G, PS, and Similar Shapes with E26 Medium Screw Bases, approved October 30, 2003.

(2) ANSI C79.1-2002, American National Standard for Electric Lamps—Nomenclature for Glass Bulbs Intended for Use with Electric Lamps, approved September 16, 2002.

(3) CIE 13.3-1995 (“CIE 13.3”), Technical Report: Method of Measuring and Specifying Colour Rendering Properties of Light Sources, 1995, ISBN 3 900 734 57 7.

DOE has evaluated these standards and is unable to conclude whether they fully comply with the requirements of Section 32(b) of the FEAA (i.e., that they were developed in a manner that fully provides for public participation, comment, and review). DOE will consult with both the Attorney General and the Chairman of the FTC concerning the impact of these test procedures on competition, prior to adopting a final rule.

V. Public Participation

A. Attendance at the Webinar

The time and date of the webinar meeting are listed in the DATES section at the beginning of this document. Webinar registration information, participant instructions, and information about the capabilities available to webinar participants will be published on DOE's website: https://www1.eere.energy.gov/buildings/appliance_standards/standards.aspx?productid=4 Participants are responsible for ensuring their systems are compatible with the webinar software.

B. Procedure for Submitting Prepared General Statements for Distribution

Any person who has an interest in the topics addressed in this notice, or who is a representative of a group or class of persons that has an interest in these issues, may request an opportunity to make an oral presentation at the webinar. Such persons may submit to ApplianceStandardsQuestions@ee.doe.gov. Persons who wish to speak should include with their request a computer file in WordPerfect, Microsoft Word, PDF, or text (ASCII) file format that briefly describes the nature of their interest in this rulemaking and the topics they wish to discuss. Such persons should also provide a daytime telephone number where they can be reached.

C. Conduct of the Webinar

DOE will designate a DOE official to preside at the webinar/public meeting and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the webinar/public meeting. There shall not be discussion of proprietary information, costs or prices, market share, or other commercial matters regulated by U.S. antitrust laws. After the webinar/public meeting and until the end of the comment period, interested parties may submit further comments on the proceedings and any aspect of the rulemaking.

The webinar/public meeting will be conducted in an informal, conference style. DOE will present summaries of comments received before the webinar/public meeting, allow time for prepared general statements by participants, and encourage all interested parties to share their views on issues affecting this rulemaking. Each participant will be allowed to make a general statement (within time limits determined by DOE), before the discussion of specific topics. DOE will permit, as time permits, other participants to comment briefly on any general statements.

At the end of all prepared statements on a topic, DOE will permit participants to clarify their statements briefly. Participants should be prepared to answer questions by DOE and by other participants concerning these issues. DOE representatives may also ask questions of participants concerning other matters relevant to this rulemaking. The official conducting the webinar/public meeting will accept additional comments or questions from those attending, as time permits. The presiding official will announce any further procedural rules or modification of the above procedures that may be needed for the proper conduct of the webinar/public meeting.

A transcript of the webinar/public meeting will be included in the docket, which can be viewed as described in the Docket section at the beginning of this proposed rulemaking. In addition, any person may buy a copy of the transcript from the transcribing reporter.

D. Submission of Comments

DOE will accept comments, data, and information regarding this proposed rule before or after the public meeting, but no later than the date provided in the DATES section at the beginning of this proposed rule. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. No telefacsimiles (“faxes”) will be accepted.

Comments, data, and other information submitted to DOE electronically should be provided in PDF (preferred), Microsoft Word or Excel, WordPerfect, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

VI. Approval of the Office of the Secretary

The Secretary of Energy has approved publication of this notice of proposed rulemaking.

List of Subjects in 10 CFR Part 430

Administrative practice and procedure, Confidential business information, Energy conservation, Household appliances, Imports, Incorporation by reference, Intergovernmental relations, Small businesses.

Signing Authority

This document of the Department of Energy was signed on August 9, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 10, 2021.
Treena V. Garrett,
Federal Register Liaison Officer, U.S. Department of Energy.

For the reasons set forth in the preamble, DOE proposes to amend part 430 of chapter II, subchapter D, of title 10 of the Code of Federal Regulations, as set forth below:

PART 430—ENERGY CONSERVATION PROGRAM FOR CONSUMER PRODUCTS

1. The authority citation for part 430 continues to read as follows:

Authority: 42 U.S.C. 6291-6309; 28 U.S.C. 2461 note.

2. Section 430.2 is amended by:

a. Adding in alphabetical order the definitions of “Black light lamp,” “Bug lamp,” “Colored lamp,” “General service light-emitting diode (LED) lamp,” “General service organic lighting-emitting diode (OLED) lamp,” “Infrared lamp,” “Integrated lamp,” “LED Downlight Retrofit Kit,” “Left-hand thread lamp,” “Light fixture,” “Marine lamp,” “Marine signal service lamp,” “Mine service lamp,” “Non-integrated lamp,” “Other fluorescent lamp,” “Pin base lamp,” “Plant light lamp,” “Reflector lamp,” “Showcase Lamp,” “Sign service lamp,” “Silver bowl lamp,” “Specialty MR lamp,” and “Traffic signal lamp;” and

b. Revising the definitions of “Designed and marketed,” “General service incandescent lamp,” and “General service lamp.”

The additions and revisions read as follows:

§ 430.2 Definitions.

* * * * *

Black light lamp means a lamp that is designed and marketed as a black light lamp and is an ultraviolet lamp with the highest radiant power peaks in the UV-A band (315 to 400 nm) of the electromagnetic spectrum.

* * * * *

Bug lamp means a lamp that is designed and marketed as a bug lamp, has radiant power peaks above 550 nm on the electromagnetic spectrum, and has a visible yellow coating.

* * * * *

Colored lamp means a colored fluorescent lamp, a colored incandescent lamp, or a lamp designed and marketed as a colored lamp with either of the following characteristics (if multiple modes of operation are possible [such as variable CCT], either of the below characteristics must be maintained throughout all modes of operation):

(1) A CRI less than 40, as determined according to the method set forth in CIE Publication 13.3 (incorporated by reference; see § 430.3); or

(2) A CCT less than 2,500 K or greater than 7,000 K.

* * * * *

Designed and marketed means exclusively designed to fulfill the indicated application and, when distributed in commerce, designated and marketed solely for that application, with the designation prominently displayed on the packaging and all publicly available documents (e.g., product literature, catalogs, and packaging labels). This definition applies to the following covered lighting products: Fluorescent lamp ballasts; fluorescent lamps; general service fluorescent lamps; general service incandescent lamps; general service lamps; incandescent lamps; incandescent reflector lamps; compact fluorescent lamps (including medium base compact fluorescent lamps); LED lamps; and specialty application mercury vapor lamp ballasts.

* * * * *

General service incandescent lamp means a standard incandescent or halogen type lamp that is intended for general service applications; has a medium screw base; has a lumen range of not less than 310 lumens and not more than 2,600 lumens or, in the case of a modified spectrum lamp, not less than 232 lumens and not more than 1,950 lumens; and is capable of being operated at a voltage range at least partially within 110 and 130 volts; however, this definition does not apply to the following incandescent lamps—

(1) An appliance lamp;

(2) A black light lamp;

(3) A bug lamp;

(4) A colored lamp;

(5) A G shape lamp with a diameter of 5 inches or more as defined in ANSI C79.1-2002 (incorporated by reference; see § 430.3);

(6) An infrared lamp;

(7) A left-hand thread lamp;

(8) A marine lamp;

(9) A marine signal service lamp;

(10) A mine service lamp;

(11) A plant light lamp;

(12) An R20 short lamp;

(13) A sign service lamp;

(14) A silver bowl lamp;

(15) A showcase lamp; and

(16) A traffic signal lamp.

General service lamp means a lamp that has an ANSI base; is able to operate at a voltage of 12 volts or 24 volts, at or between 100 to 130 volts, at or between 220 to 240 volts, or of 277 volts for integrated lamps (as defined in this section), or is able to operate at any voltage for non-integrated lamps (as defined in this section); has an initial lumen output of greater than or equal to 310 lumens (or 232 lumens for modified spectrum general service incandescent lamps) and less than or equal to 3,300 lumens; is not a light fixture; is not an LED downlight retrofit kit; and is used in general lighting applications. General service lamps include, but are not limited to, general service incandescent lamps, compact fluorescent lamps, general service light-emitting diode lamps, and general service organic light emitting diode lamps. General service lamps do not include:

(1) Appliance lamps;

(2) Black light lamps;

(3) Bug lamps;

(4) Colored lamps;

(5) G shape lamps with a diameter of 5 inches or more as defined in ANSI C79.1-2002 (incorporated by reference; see § 430.3);

(6) General service fluorescent lamps;

(7) High intensity discharge lamps;

(8) Infrared lamps;

(9) J, JC, JCD, JCS, JCV, JCX, JD, JS, and JT shape lamps that do not have Edison screw bases;

(10) Lamps that have a wedge base or prefocus base;

(11) Left-hand thread lamps;

(12) Marine lamps;

(13) Marine signal service lamps;

(14) Mine service lamps;

(15) MR shape lamps that have a first number symbol equal to 16 (diameter equal to 2 inches) as defined in ANSI C79.1-2002 (incorporated by reference; see § 430.3), operate at 12 volts, and have a lumen output greater than or equal to 800;

(16) Other fluorescent lamps;

(17) Plant light lamps;

(18) R20 short lamps;

(19) Reflector lamps (as defined in this section) that have a first number symbol less than 16 (diameter less than 2 inches) as defined in ANSI C79.1-2002 (incorporated by reference; see § 430.3) and that do not have E26/E24, E26d, E26/50x39, E26/53x39, E29/28, E29/53x39, E39, E39d, EP39, or EX39 bases;

(20) S shape or G shape lamps that have a first number symbol less than or equal to 12.5 (diameter less than or equal to 1.5625 inches) as defined in ANSI C79.1-2002 (incorporated by reference; see § 430.3);

(21) Sign service lamps;

(22) Silver bowl lamps;

(23) Showcase lamps;

(24) Specialty MR lamps;

(25) T-shape lamps that have a first number symbol less than or equal to 8 (diameter less than or equal to 1 inch) as defined in ANSI C79.1-2002 (incorporated by reference; see § 430.3), nominal overall length less than 12 inches, and that are not compact fluorescent lamps (as defined in this section);

(26) Traffic signal lamps.

General service light-emitting diode (LED) lamp means an integrated or nonintegrated LED lamp designed for use in general lighting applications (as defined in this section) and that uses light emitting diodes as the primary source of light.

General service organic light-emitting diode (OLED) lamp means an integrated or non-integrated OLED lamp designed for use in general lighting applications (as defined in this section) and that uses organic light-emitting diodes as the primary source of light.

* * * * *

Infrared lamp means a lamp that is designed and marketed as an infrared lamp; has its highest radiant power peaks in the infrared region of the electromagnetic spectrum (770 nm to 1 mm); has a rated wattage of 125 watts or greater; and which has a primary purpose of providing heat.

* * * * *

Integrated lamp means a lamp that contains all components necessary for the starting and stable operation of the lamp, does not include any replaceable or interchangeable parts, and is connected directly to a branch circuit through an ANSI base and corresponding ANSI standard lampholder (socket).

* * * * *

LED Downlight Retrofit Kit means a product designed and marketed to install into an existing downlight, replacing the existing light source and related electrical components, typically employing an ANSI standard lamp base, either integrated or connected to the downlight retrofit by wire leads, and is a retrofit kit. LED downlight retrofit kit does not include integrated lamps or non-integrated lamps.

Left-hand thread lamp means a lamp with direction of threads on the lamp base oriented in the left-hand direction.

* * * * *

Light fixture means a complete lighting unit consisting of light source(s) and ballast(s) or driver(s) (when applicable) together with the parts designed to distribute the light, to position and protect the light source, and to connect the light source(s) to the power supply.

* * * * *

Marine lamp means a lamp that is designed and marketed for use on boats and can operate at or between 12 volts and 13.5 volts.

Marine signal service lamp means a lamp that is designed and marketed for marine signal service applications.

* * * * *

Mine service lamp means a lamp that is designed and marketed for mine service applications.

* * * * *

Non-integrated lamp means a lamp that is not an integrated lamp.

* * * * *

Other fluorescent lamp means low pressure mercury electric-discharge sources in which a fluorescing coating transforms some of the ultraviolet energy generated by the mercury discharge into light and include circline lamps and include double-ended lamps with the following characteristics: Lengths from one to eight feet; designed for cold temperature applications; designed for use in reprographic equipment; designed to produce radiation in the ultraviolet region of the spectrum; impact-resistant; reflectorized or aperture; or a CRI of 87 or greater.

* * * * *

Pin base lamp means a lamp that uses a base type designated as a single pin base or multiple pin base system.

* * * * *

Plant light lamp means a lamp that is designed to promote plant growth by emitting its highest radiant power peaks in the regions of the electromagnetic spectrum that promote photosynthesis: Blue (440 nm to 490 nm) and/or red (620 to 740 nm), and is designed and marketed for plant growing applications.

* * * * *

Reflector lamp means a lamp that has an R, PAR, BPAR, BR, ER, MR, or similar bulb shape as defined in ANSI C78.20 and ANSI C79.1-2002 (both incorporated by reference; see § 430.3) and is used to provide directional light.

* * * * *

Showcase lamp means a lamp that has a T shape as specified in ANSI C78.20 and ANSI C79.1-2002 (both incorporated by reference; see § 430.3), is designed and marketed as a showcase lamp, and has a maximum rated wattage of 75 watts.

* * * * *

Sign service lamp means a vacuum type or gas-filled lamp that has sufficiently low bulb temperature to permit exposed outdoor use on highspeed flashing circuits, is designed and marketed as a sign service lamp, and has a maximum rated wattage of 15 watts.

Silver bowl lamp means a lamp that has an opaque reflective coating applied directly to part of the bulb surface that reflects light toward the lamp base and that is designed and marketed as a silver bowl lamp.

* * * * *

Specialty MR lamp means a lamp that has an MR shape as defined in ANSI C79.1-2002 (incorporated by reference; see § 430.3), a diameter of less than or equal to 2.25 inches, a lifetime of less than or equal to 300 hours, and that is designed and marketed for a specialty application.

* * * * *

Traffic signal lamp means a lamp that is designed and marketed for traffic signal applications and has a lifetime of 8,000 hours or greater.

* * * * *

[FR Doc. 2021-17346 Filed 8-18-21; 8:45 am]

BILLING CODE 6450-01-P